SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before March 30, 2018.

ADDRESSES: Send all comments to Janet Moorman, Business Development Specialist, Office of Veterans, Small Business Administration, 409 3rd Street, 6th Floor, Washington, DC 20416.

FOR FURTHER INFORMATION CONTACT: Janet Moorman, Business Development Specialist, Office of Veterans, janet.moorman@sba.gov 202-205-7419, or Curtis B. Rich, Management Analyst, 202-205-7030, curtis.rich@sba.gov;

SUPPLEMENTARY INFORMATION: OMB Memorandums M-14-06 and M-13-17 provide guidance for agencies to leverage data for statistical purposes in an effort to provide a foundation for evaluation and analysis of programmatic work. The SBA's performance evaluation project will evaluate the performance of VBOCs in an effort to standardize performance across all partners. The methodology of this evaluation includes conducting a VBOC director survey, a client outcome survey, and on-site, in-person interviews with directors, staff, and clients.

Solicitation of Public Comments:

Comments may be submitted on (a) whether the collection of information is necessary for the agency to properly perform its functions; (b) whether the burden estimates are accurate; (c) whether there are ways to minimize the burden, including through the use of automated techniques or other forms of information technology; and (d) whether there are ways to enhance the quality, utility, and clarity of the information.

Summary of Information Collections:

Title: Evaluation of the Veterans Business Outreach Centers.

Description of Respondents: Transitioning Service Members.

Form Number: N/A.

Estimated Annual Respondents: 15,000.

Estimated Annual Responses: 2,251.

Estimated Annual Hour Burden: 2,313.

Curtis B. Rich,
Management Analyst.

[FR Doc. 2018-01567 Filed 1-26-18; 8:45 am]

BILLING CODE 8025-01-P